DEPARTMENT OF DEFENSE

Defense Acquisition Regulations System

48 CFR Part 207

RIN 0750-AI43

Defense Federal Acquisition Regulation Supplement: Inflation Adjustment of Acquisition-Related Thresholds (DFARS Case 2014-D025); Partial Withdrawal

AGENCY: Defense Acquisition Regulations System, Department of Defense (DoD).

ACTION: Final rule; partial withdrawal.

SUMMARY: Defense Acquisition Regulations System published in the Federal Register of June 26, 2015, at 80 FR 36903, a document to implement the inflation adjustment of acquisition-related dollar thresholds. Inadvertently, by an amendment to DFARS section 207.170-3, paragraph (a) was escalated from $6 million to $6.5 million. This document withdraws that amendment.

DATES: Effective: October 1, 2015.

FOR FURTHER INFORMATION CONTACT: Ms. Amy G. Williams, telephone 571-372-6106.

SUPPLEMENTARY INFORMATION: DARS published a document in the Federal Register of June 26, 2015, (80 FR 36903) escalating the acquisition-related dollar threshold in DFARS, which included an adjustment to section 207.170-3 to revise the threshold from $6 million to $6.5 million. As published in the Federal Register on June 26, 2015 (80 FR 36903), the DFARS final rule 2014-D025 contains an error, which is in need of correction. To address this error, this correction removes the amendment to DFARS section 207.170-3 thereby reinstating the $6 million threshold.

List of Subjects in 48 CFR Part 207

Government procurement.

Amy G. Williams,
Editor, Defense Acquisition Regulations System.

In final rule Federal Register document (80 FR 36903) published on June 26, 2015, make the following correction:

On page 36904, in the center column, remove amendatory instruction number 6 amending 207.170-3.

[FR Doc. 2015-18939 Filed 7-31-15; 8:45 am]

BILLING CODE 5001-06-P